DEPARTMENT OF HEALTH AND HUMAN SERVICES

National Institutes of Health

National Institute of Environmental Health Sciences; Amended Notice of Meeting

Notice is hereby given of a change in the meeting of the National Advisory

Environmental Health Sciences Council, September 9, 2008, 8:30 a.m. to September 10, 2008, 5 p.m., Nat. Inst. of Environmental Health Sciences, Building 101, Rodbell Auditorium, 111 T. W. Alexander Drive, Research Triangle Park, NC, 27709 which was published in the Federal Register on August 4, 2008, E8-17728.

Time change for September 9, 2008, open session 8:30 a.m.-3 p.m. and closed 3 p.m.-5 p.m.; September 10, 2008, closed session 8:30 a.m.-4 p.m. The meeting is partially closed to the public.

Dated: August 8, 2008.
Anna Snouffer,
Deputy Director, Office of Federal Advisory Committee Policy.

[FR Doc. E8-18873 Filed 8-15-08; 8:45 am]

BILLING CODE 4140-01-M